DEPARTMENT OF ENERGY

Federal Energy Regulatory Commission

[Docket No. EC03-42-000, et al.]

Calpine Energy Services, L.P., et al.; Electric Rate and Corporate Filings

January 13, 2003.

The following filings have been made with the Commission. The filings are listed in ascending order within each docket classification.

1. Calpine Energy Services, L.P. CES Marketing, LLC

[Docket No. EC03-42-000]

Take notice that on January 7, 2003, Calpine Energy Services, L.P. (CESLP) and CES Marketing, LLC (CESM) tendered for filing with the Federal Energy Regulatory Commission (Commission) an application under section 203 of the Federal Power Act for approval of the assignment by CESLP to CESM of a wholesale power sales agreement between CESLP and the State of California Department of Water Resources.

Comment Date: January 28, 2003.

2. AES Londonderry, LLC New England Power Company

[Docket No. EC03-43-000]

Take notice that on January 7, 2003, AES Londonderry, LLC (AESL) and New England Power Company (NEP) filed with the Federal Energy Regulatory Commission (Commission) a joint application pursuant to Section 203 of the Federal Power Act for approval of the transfer by AESL to NEP of certain transmission facilities located at a switchyard constructed by AESL in North Litchfield, New Hampshire in connection with the interconnection of a generation facility constructed by AESL in Londonderry, New Hampshire.

AESL and NEP have also requested that the Commission consider and approve the application on an expedited basis and grant waivers of the Commission's regulations so that the transaction may be completed at the earliest possible time on or before January 31, 2003.

AESL and NEP state that a copy of the application has been served on the New Hampshire Public Utilities Commission.

Comment Date: January 28, 2003.

3. ESI Energy, LLC, ESI Multitrade LP, Inc. and Algonquin Power Acquisition Inc.

[Docket No. EC03-44-000]

Take notice that on January 6, 2003, ESI Energy, LLC, ESI Multitrade LP, Inc. and Algonquin Power Acquisition, Inc. filed with the Federal Energy Regulatory Commission (Commission) an application pursuant to section 203 of the Federal Power Act for authorization of a disposition of jurisdictional facilities whereby ESI Energy, LLC will divest, and Algonquin Power Acquisition Inc. will acquire, a 100% interest in ESI Pittsylvania, Inc. which owns a 1% general partner interest in Multitrade of Pittsylvania County, L.P., which owns and operates a 79.5 megawatt wood-burning qualifying small power production facility located in Pittsylvania County, Virginia; and ESI Multitrade LP, Inc. will divest, and Algonquin Power Acquisition Inc. will acquire, a 39% limited partner interest in Multitrade of Pittsylvania County, L.P. Federal Energy Regulatory Commission approval is required for the transaction pursuant to Section 203 of the Federal Power Act and the Public Utility Regulatory Policies Act of 1978 requirements applicable to certain qualifying facilities with a total capacity between 30 MW and 80 MW.

Comment Date: January 27, 2003.

4. California Independent System Operator Corporation Pacific Gas and Electric Company, San Diego Gas & Electric Company

[Docket No. ER98-3760-008, EC96-19-059, and ER96-1663-062]

Take notice that on January 7, 2003, the California Independent System Operator Corporation (ISO) tendered for filing with the Federal Energy Regulatory Commission (Commission) a compliance filing with the Commission's November 22, 2002 Order on Outstanding Issues Relating to the California Independent System Operator Corporation, 101 FERC ¶ 61,219. The compliance filing revises a number of sections of the ISO's Tariff, Protocols and Transmission Control Agreement, and in accordance with the November 22 Order.

The ISO states that this filing has been served on all entities that are on the official service list for this docket.

Comment Date: January 28, 2003.

5. Progress Energy, Inc. Effingham County Power, LLC MPC Generating, LLC ER96-1618-017, Progress Power Marketing, Inc. Progress Ventures, Inc. Rowan County Power, LLC Walton County Power, LLC

[Docket Nos. ER01-1418-001, ER02-1238-001, ER01-2928-003, ER01-1419-001 and ER01-1310-002]

Take notice that Progress Energy, Inc., on behalf of its subsidiaries, Effingham County Power, LLC, MPC Generating, LLC, Progress Power Marketing, Inc., Progress Ventures, Inc., Rowan County Power, LLC and Walton County Power, LLC, tendered for filing, on January 9, 2003, three-year updates to the subsidiaries market-based rate authority and notices of change in status.

Progress Energy, Inc. states that copies of the filing were served on the North Carolina Utilities Commission, the South Carolina Public Service Commission, the Florida Public Service Commission and the Georgia Public Service Commission.

Comment Date: January 30, 2003.

6. Southern Company Services, Inc.

[Docket No. ER03-390-000]

Take notice that on January 9, 2003, Southern Company Services, Inc., acting on behalf of Georgia Power Company (GPC), filed with the Federal Energy Regulatory Commission (Commission) a Notice of Cancellation of the Interconnection Agreement between Duke Energy Glynn, LLC and GPC (Service Agreement No. 378 under Southern Companies' Open Access Transmission Tariff, Fourth Revised Volume No. 5). An effective date of June 1, 2002 has been requested.

Comment Date: January 30, 2003.

7. Southern Company Services, Inc.

[Docket No. ER03-391-000]

Take notice that on January 9, 2003, Southern Company Services, Inc., acting on behalf of Alabama Power Company (APC), filed with the Federal Energy Regulatory Commission (Commission) a Notice of Cancellation of the Interconnection Agreement between Duke Energy Autauga, LLC and APC (Service Agreement No. 383 under Southern Companies' Open Access Transmission Tariff, Fourth Revised Volume No. 5). An effective date of November 27, 2001 has been requested.

Comment Date: January 30, 2003.

8. Southern Company Services, Inc.

[Docket No. ER03-392-000]

Take notice that on January 9, 2003, Southern Company Services, Inc., acting on behalf of Mississippi Power Company (MPC), filed with the Federal Energy Regulatory Commission (Commission) a Notice of Cancellation of the Interconnection Agreement between International Paper Company and MPC (Service Agreement No. 253 under Southern Companies' Open Access Transmission Tariff, Fourth Revised Volume No. 5). An effective date of June 30, 2002 has been requested.

Comment Date: January 30, 2003.

9. Florida Power Corporation

[Docket No. ER03-393-000]

Take notice that on January 9, 2003, Florida Power Corporation (Florida Power) tendered for filing with the Federal Energy Regulatory Commission (Commission) a Notice of Cancellation for its Electric Rate Schedule FERC No. 133, originally filed in Docket No. ER92-451-000. Florida Power also filed First Revised Rate Schedule FERC No. 185, consistent with the Commission's Order No. 614, to reflect the fact that provisions relating to a construction agreement for the Cabbage Hill point of interconnection have been terminated in accordance with the terms of the construction agreement. In addition, Florida Power states that the terms of an O&M Agreement for a temporary Cabbage Swamp tie have terminated by their terms and have been superseded in previous filings. Florida Power requests an effective date of October 1, 2002.

Florida Power states that a copy of this filing has been served on Tampa Electric, the counter party to the agreements and the relevant state commission. This filing does not represent a change in the terms of service between the parties.

Comment Date: January 30, 2003.

10. Elk Hills Power, LLC

[Docket No. ER03-394-000]

Take notice that on January 9, 2003, Elk Hills Power, LLC (Elk Hills) tendered for filing with the Federal Energy Regulatory Commission (Commission) pursuant to Rule 205, 18 CFR 385.205, a petition for waivers and blanket approvals under various regulations of the Commission and for an order accepting its FERC Electric Tariff No. 1.

Elk Hills states that it intends to sell electric power and ancillary services at wholesale at rates, terms, and conditions to be mutually agreed to with the purchasing party. The Elk Hills tariff provides for the sale of electric energy, capacity and ancillary services at agreed prices.

Comment Date: January 30, 2003.

11. California Independent System Operator Corporation

[Docket No. ER03-395-000]

Take notice that ON January 9, 2003, the California Independent System Operator Corporation (ISO) tendered for filing with the Federal Energy Regulatory Commission (Commission) a Participating Generator Agreement between the ISO and Termoeléctrica de Mexicali S. de R.L. de C.V (TDM) for acceptance by the Commission.

The ISO states that this filing has been served on TDM and the California Public Utilities Commission.

The ISO is requesting waiver of the 60-day notice requirement to allow the Participating Generator Agreement to be made effective December 31, 2002.

Comment Date: January 30, 2003.

12. Florida Power Corporation

[Docket No. ER03-396-000]

Take notice that on January 9, 2003, Florida Power Corporation tendered for filing a Second Revised Electric Rate Schedule FERC No. 65, originally filed with the FPC on July 21, 1965 and most recently refiled in conformance with Order No. 614 in Docket No. ER02-1655-000, to reflect a change in the rate paid for power under its interchange contract with Southeastern Power Administration.

Florida Power Corporation states that a copy of this filing has been served on Southeastern Power Administration, the counter party to the agreements. This filing does not represent a change in any rate charged by Florida Power Corporation.

Comment Date: January 30, 2003.

13. PJM Interconnection, L.L.C.

[Docket No. ER03-397-000]

Take notice that on January 9, 2003, PJM Interconnection, L.L.C. (PJM), submitted for filing a revised interconnection service agreement between PJM and PSEG Power, L.L.C. (PSEG Power). The original agreement is revised to add a development milestone and to include some other minor amendments.

PJM requests an effective date of December 12, 2002 for the revised agreement.

PJM states that copies of this filing were served upon PSEG Power and the state regulatory commissions within the PJM region.

Comment Date: January 30, 2003.

14. Washington County Power, LLC

[Docket No. ER03-398-000]

Take notice that on January 9, 2003, Washington County Power, LLC (Washington) hereby tendered for filing with the Federal Energy Regulatory Commission (Commission) its request for market-based rate (MBR) authority. Washington requests that the Commission make its MBR tariff effective on March 11, 2003, sixty days after the date of this filing.

Comment Date: January 30, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1259 Filed 1-17-03; 8:45 am]

BILLING CODE 6717-01-P